DEPARTMENT OF COMMERCE

National Oceanic and Atmospheric Administration

[RTID 0648-XA138]

Mid-Atlantic Fishery Management Council (MAFMC); Public Meeting

AGENCY: National Marine Fisheries Service (NMFS), National Oceanic and Atmospheric Administration (NOAA), Commerce.

ACTION: Notice; public meeting.

SUMMARY: The Mid-Atlantic Fishery Management Council's (Council) Scientific and Statistical Committee (SSC) will hold a meeting.

DATES: The meeting will be held on Tuesday, May 12, 2020, from 10 a.m. through 5:30 p.m. and Wednesday, May 13, 2020, from 9 a.m. through 12:30 p.m. See SUPPLEMENTARY INFORMATION for agenda details.

ADDRESSES: The meeting will take place over webinar with a telephone-only connection option. Details on how to connect to the webinar by computer and by telephone will be available at: http://www.mafmc.org/ssc.

Council address: Mid-Atlantic Fishery Management Council, 800 N State Street, Suite 201, Dover, DE 19901; telephone: (302) 674-2331; website: www.mafmc.org.

FOR FURTHER INFORMATION CONTACT: Christopher M. Moore, Ph.D., Executive Director, Mid-Atlantic Fishery Management Council, telephone: (302) 526-5255.

SUPPLEMENTARY INFORMATION: The purpose of this meeting is to review the analysis, work products, and potential outcomes developed by the Illex workgroup. Formed in 2019, the Illex workgroup is comprised of SSC members, Council members, NEFSC, GARFO, and Council staff and is tasked with developing approaches for possible in-year quota adjustments and lay the basis for a research track Illex stock assessment that is scheduled for 2021. Utilizing the information provided by the Illex workgroup and other relevant data and information, the SSC will review and possibly modify the 2020 Illex acceptable biological catch (ABC) and make 2021 ABC recommendations for Illex fishery. The SSC will also receive an update and provide feedback on the recently completed Northeast Habitat Climate Vulnerability Assessment. The SSC will also review updates and possible changes to the overfishing limit (OFL) coefficient of variation (CV) guidance document, elect a vice-chair of the SSC, receive an update on the 2020 National Scientific Coordination Subcommittee meeting, and review the 2020 SSC species/topics lead assignments. In addition, the SSC may take up any other business as necessary.

A detailed agenda and background documents will be made available on the Council's website (www.mafmc.org) prior to the meeting.

Special Accommodations

These meetings are physically accessible to people with disabilities. Requests for sign language interpretation or other auxiliary aid should be directed to M. Jan Saunders, (302) 526-5251, at least 5 days prior to the meeting date.

Authority: 16 U.S.C. 1801 et seq.

Dated: April 16, 2020.
Tracey L. Thompson,
Acting Deputy Director, Office of Sustainable Fisheries, National Marine Fisheries Service.

[FR Doc. 2020-08424 Filed 4-20-20; 8:45 am]

BILLING CODE 3510-22-P